DEPARTMENT OF VETERANS AFFAIRS

Professional Certification and Licensure Advisory Committee; Notice of Meeting

The Department of Veterans Affairs gives notice under Public Law 92-463 (Federal Advisory Committee Act) that the Professional Certification and Licensure Advisory Committee has scheduled a meeting for March 24, 2006, in Conference Room 542, Veterans Benefits Administration, 1800 G Street, NW., Washington, DC, from 8:30 a.m. to 4 p.m. The meeting is open to the public.

The purpose of the Committee is to advise the Secretary of Veterans Affairs on the requirements of organizations or entities offering licensing and certification tests to individuals for which payment for such tests may be made under Chapters 30, 32, 34, or 35 of title 38, United States Code.

The meeting will begin with opening remarks by Ms. Sandra Winborne, the Committee Chair. During the morning session, there will be an ethics briefing and discussions about system updates, new uses of the license and certification benefit, and outreach activities. The afternoon session will include a presentation on the usage of the license and certification test reimbursement benefit, statements from the public (scheduled for 2 p.m.), old business, and new business.

Interested persons may file written statements to the Committee before the meeting, or within 10 days after the meeting, with Ms. Stacey St. Holder, Designated Federal Officer, Department of Veterans Affairs (225B), 810 Vermont Avenue, NW., Washington, DC 20420. Anyone wishing to attend the meeting should contact Ms. Stacey St. Holder or Mr. Michael Yunker at (202) 273-7187.

Dated: March 2, 2006.
By direction of the Secretary.
E. Philip Riggin,
Committee Management Officer.

[FR Doc. 06-2195 Filed 3-8-06; 8:45 am]

BILLING CODE 8320-01-M